FEDERAL COMMUNICATIONS COMMISSION

Sunshine Act Meeting; Open Commission Meeting; Thursday, May 12, 2011

Date: May 5, 2011.

The Federal Communications Commission will hold an Open Meeting on the subjects listed below on Thursday, May 12, 2011, which is scheduled to commence at 10:30 a.m. in Room TW-C305, at 445 12th Street, SW., Washington, DC.

The meeting will also include a presentation by the Managing Director on the status of the new FCC Web site.

Item No. | Bureau | Subject
1 | PUBLIC SAFETY AND HOMELAND SECURITY | TITLE: Proposed Extension of Part 4 of the Commission's Rules Regarding Outage Reporting to Interconnected Voice Over Internet Protocol Service Providers and Broadband Internet Service Providers SUMMARY: The Commission will consider a Notice of Proposed Rulemaking to extend the outage reporting requirements in Part 4 of the rules to interconnected VoIP and broadband service providers to promote the resiliency of America's 9-1-1 system and the country's critical communications infrastructure.
2 | INTERNATIONAL | TITLE: International Settlements Policy Reform; Joint Petition for Rulemaking of AT&T Inc., Sprint Nextel Corporation and Verizon (RM-11322); Modifying the Commission's Process to Avert Harm to U.S. Competition and U.S. Customers Caused by Anticompetitive Conduct (IB Docket No. 05-254); Petition of AT&T for Settlements Stop Payment Order on the U.S.-Tonga Route (IB Docket No. 09-10) SUMMARY: The Commission will consider, as part of the Commission's regulatory reform efforts, a Notice of Proposed Rulemaking to remove outdated regulations governing the exchange of telephone traffic between U.S. and foreign carriers that are no longer necessary to protect consumers and competition, while strengthening protections against anticompetitive practices by foreign carriers.
3 | INTERNATIONAL | TITLE: Reporting Requirements for U.S. Providers of International Telecommunications Services (IB Docket No. 04-112); Amendment of Part 43 of the Commission's Rules SUMMARY: The Commission will consider, as part of the Commission's Data Innovation Initiative, a First Report and Order and Further Notice of Proposed Rulemaking to eliminate unnecessary reporting requirements regarding international telephone service, while streamlining and modernizing remaining international data reporting to ensure continued relevance in light of changing markets.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Avis Mitchell,
Federal Register Liaison, Office of the Secretary, Office of Managing Director.

[FR Doc. 2011-11582 Filed 5-6-11; 4:15 pm]

BILLING CODE 6712-01-P